DEPARTMENT OF COMMERCE

International Trade Administration

A-428-801

Ball Bearings and Parts Thereof From Germany; Amended Final Results of Antidumping Duty Administrative Review

AGENCY: Import Administration, International Trade Administration, Department of Commerce.

ACTION: Notice of amended final results of antidumping duty administrative review.

SUMMARY: On September 15, 2004, the Department of Commerce published in the Federal Register the final results of the administrative reviews of the antidumping duty orders on ball bearings and parts thereof from France, Germany, Italy, Japan, Singapore and the United Kingdom. The period of review is May 1, 2002, through April 30, 2003. Based on the correction of certain ministerial errors, we have changed the antidumping margin for Paul Mueller Industrie GmbH & Co. KG and we are amending our final results of the administrative review of ball bearings and parts thereof from Germany.

FOR FURTHER INFORMATION CONTACT: Please Contact David Dirstine at (202) 482-4033 or Richard Rimlinger at (202) 482-4477; AD/CVD Operations, Office 5, Import Administration, International Trade Administration, U.S. Department of Commerce, Washington, DC 20230.

SUPPLEMENTARY INFORMATION:

Background

On September 15, 2004, the Department of Commerce (the Department) published in the Federal Register the final results of the administrative reviews of the antidumping duty orders on ball bearings and parts thereof (ball bearings) from France, Germany, Italy, Japan, Singapore and the United Kingdom (69 FR 55574) (Final Results).

On September 27, 2004, we received timely allegations of ministerial errors from Timken U.S. Corporation (Timken). Specifically, Timken asserted that the Department erred when it included amounts for Paul Mueller Industrie GmbH & Co. KG's (Paul Mueller's) home-market credit expenses and inventory carrying costs in the calculation of selling expenses for use in the calculation of the constructed-export-price (CEP) profit ratio. Furthermore, Timken alleged that there was an irregularity in the margin calculation that resulted in an improper match for certain models of ball bearings.

On September 29, 2004, Paul Mueller submitted its response to Timken's September 27, 2004, clerical-error submission. In response to Timken's allegation that a clerical error resulted in an incorrect calculation of the CEP profit ratio, Paul Mueller suggested that the alleged error raises a methodological issue. Paul Mueller argues that Timken's clerical error claim regarding the calculation of the CEP profit ratio should be rejected and any dispute relating to this issue should be subject to judicial review. Finally, Paul Mueller agrees that a clerical error resulted in an improper match for certain models of ball bearings.

We agree with Timken that the items in question are ministerial errors and we have amended the final results to correct these errors. See the Paul Mueller Amended Final Results Analysis Memorandum dated October 19, 2004.

Amended Final Results of Review

As a result of the correction of the ministerial errors, the weighted-average margin for Paul Mueller for the period May 1, 2002, through April 30, 2003, changed from 0.36 percent to 0.44 percent.

We revoked the order in part with respect to all subject merchandise manufactured and exported by Paul Mueller in the Final Results based in part on the de minimis margin we calculated for Paul Mueller in this review. Since the revised margin based on these corrections is still de minimis our decision to revoke is not affected by the amended final results of review. While the dumping margin we calculated for Paul Mueller remains de minimis, the assessment rate we calculated for Paul Mueller based on entered customs value is not de minimis. Therefore, in accordance with 19 CFR 351.106(c)(2), we will direct U.S. Customs and Border Production to assess the resulting percentage margin against the entered customs value of Paul Mueller's entries (all of which were constructed export-price sales) during the review period. See 19 CFR 351.212(b)(1).

We are issuing and publishing this determination and notice in accordance with sections 751(a)(1) and 777(i) of the Act and 19 CFR 351.224(e).

Dated: October 27, 2004.
James J. Jochum,
Assistant Secretary for Import Administration.

[FR Doc. E4-2982 Filed 11-1-04; 8:45 am]

BILLING CODE 3510-DS-S